DEPARTMENT OF TRANSPORTATION

Federal Aviation Administration

14 CFR Part 39

[Docket No. 98-ANE-57; Amendment 39-12124; AD 2001-04-06]

RIN 2120-AA64

Airworthiness Directives; CFM International, S.A. CFM56-3, -3B, and -3C Series Turbofan Engines; Correction

AGENCY: Federal Aviation Administration, DOT.

ACTION: Final rule; correction.

SUMMARY: This document makes a correction to Airworthiness Directive (AD) 2001-04-06 applicable to CFM International, S.A. CFM56-3, -3B, and -3C series turbofan engines that was published in the Federal Register on February 28, 2001 (66 FR 12726). The information in paragraph (i) in the regulatory information is incorrect. This document corrects paragraph (i). In all other respects, the original document remains the same.

EFFECTIVE DATE: April 4, 2001.

FOR FURTHER INFORMATION CONTACT: Glorianne Niebuhr, Aerospace Engineer, Engine Certification Office, FAA, Engine and Propeller Directorate, 12 New England Executive Park, Burlington, MA 01803-5299; telephone (781) 238-7132, fax (781) 238-7199.

SUPPLEMENTARY INFORMATION: A final rule airworthiness directive applicable to CFM International, S.A. CFM56-3, -3B, and -3C series turbofan engines, was published in the Federal Register on February 28, 2001 (66 FR 12726). Paragraph (i) of the AD provided that inspection is not required for disks that have been rebroached “prior to exceeding the .004 inch wear limit.” This was incorrect as disks that have not yet reached the wear limit will not go through the rebroaching process. Only if a disk has exceeded the wear limit, will that disk be rebroached. Therefore, the FAA is correcting the AD by deleting reference to the wear limit in paragraph (i). Make the following correction to FR Doc. 01-4216:

§ 39.13 [Corrected]

On page 12729, in the second column, in AD 2001-04-06, in the Compliance Section, paragraph (i) is corrected to read as follows:

2001-04-06 CFM International: Amendment 39-12124. Docket 98-ANE-57-AD.

* * * * *

Compliance * * *

* * * * *

(i) Inspection is not required for fan disks that used lubricants identified in paragraph (g) of this AD but were then rebroached, then were not lubricated with the lubricants identified in paragraph (g) of this AD AND were equipped with fan blade configurations specified either in subparagraph (h)(1) or (h)(2) of this AD.

* * * * *

Issued in Burlington, MA, on June 19, 2001.
Jay J. Pardee,
Manager, Engine and Propeller Directorate, Aircraft Certification Service.

[FR Doc. 01-16048 Filed 7-2-01; 8:45 am]

BILLING CODE 4910-13-P